DEPARTMENT OF AGRICULTURE

Natural Resources Conservation Service

Notice of Request for Nominations to the Agricultural Air Quality Task Force

AGENCY: Natural Resources Conservation Service, United States Department of Agriculture.

ACTION: Notice of Request for Nominations.

SUMMARY: The Secretary of Agriculture intends to reestablish the Agricultural Air Quality Task Force (AAQTF) and requests nominations for qualified persons to serve as members.

DATES: Nominations must be received in writing by September 16, 2010.

FOR FURTHER INFORMATION CONTACT: Questions, comments, and nomination package should be sent to Jeff Schmidt, Acting Designated Federal Official. Mr. Schmidt may be contacted at the Department of Agriculture, Natural Resources Conservation Service, 420 South State Road 7, Suite 160, Royal Palm Beach, Florida 33414; telephone: (561) 242-5520 x3748; fax: (561) 792-2821; e-mail: jeff.schmidt@fl.usda.gov.

SUPPLEMENTARY INFORMATION:

AAQTF Purpose

As required by Section 391 of the Federal Agriculture Improvement and Reform Act of 1996, the Chief of the Natural Resources Conservation Service (NRCS) will establish a task force to review research that addresses air quality issues related to agriculture or agriculture infrastructure. The task force will provide recommendations to the Secretary of Agriculture on development and implementation of air quality policy and on air quality research needs. The requirements of the Federal Advisory Committee Act apply to this task force.

The task force will:

(1) Review research on agricultural air quality supported by Federal agencies;

(2) Provide recommendations to the Secretary of Agriculture regarding air quality and its relation to agriculture based upon sound scientific findings;

(3) Work to ensure inter-governmental (Federal, State, and local) coordination in establishing policy for agricultural air quality and to avoid duplication of efforts;

(4) Assist, to the extent practical, Federal agencies in correcting erroneous data with respect to agricultural air quality; and

(5) Ensure that air quality research, related to agriculture, receives adequate peer review and considers economic feasibility.

AAQTF Membership

The task force will be made up of United States citizens and be composed of:

(1) Individuals with expertise in agricultural air quality and agricultural production;

(2) Representatives of institutions with expertise in the impacts of air quality on human health;

(3) Representatives from agriculture interest groups having expertise in production agriculture;

(4) Representatives from State or local agencies having expertise in agriculture and air quality; and

(5) Atmospheric scientists.

Task force nominations must be in writing and provide the appropriate background documents required by the Department of Agriculture (USDA) policy, including Form AD-755. Previous nominees and current task force members who wish to be reappointed must update their nominations and provide a new background disclosure form (AD-755) to reaffirm their candidacy (http://www.ocio.usda.gov/forms/ocio_forms.html). Service as a task force member will not constitute employment by, or the holding of an office of, the United States for the purpose of any Federal law.

A task force member will serve for a term of 2 years. Task force members will receive no compensation from NRCS for their service as task force members except as described below.

While away from home or regular place of business as a member of the task force, the member will be eligible for travel expenses paid by NRCS, including per diem in lieu of subsistence, at the same rate as a person employed intermittently in the government service, under section 5703 of Title 5, U.S.C.

Additional information about the AAQTF may be found on the World Wide Web at http://www.airquality.nrcs.usda.gov/AAQTF/.

Submitting Nominations

Nominations should be typed and include the following:

(1) A brief summary, of no more than two pages, explaining the nominee's qualifications to serve on the AAQTF;

(2) Resume;

(3) A completed copy of form AD-755;

(4) Any recent publications relative to air quality; and

(5) Any letters of endorsement.

Nominations should be sent to Jeff Schmidt, Acting Designated Federal Official, Natural Resources Conservation Service, 420 South State Road 7, Suite 160, Royal Palm Beach, Florida 33414 by September 16, 2010.

Equal Opportunity Statement

To ensure that recommendations of the task force take into account the needs of underserved and diverse communities served by USDA, membership will include, to the extent practicable, individuals representing minorities, women, and persons with disabilities. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2600 (voice and TDD). USDA is an equal opportunity provider and employer.

Signed this 28th day of July, 2010, in Washington, DC.
Dave White,
Chief, Natural Resources Conservation Service.

[FR Doc. 2010-18882 Filed 7-30-10; 8:45 am]

BILLING CODE 3410-16-P